DEPARTMENT OF COMMERCE

International Trade Administration

A-533-808

Stainless Steel Wire Rods from India: Notice of Court Decision Not in Harmony

AGENCY: Import Administration, International Trade Administration, Department of Commerce.

SUMMARY: On July 7, 2006, the United States Court of International Trade (CIT) affirmed the Department of Commerce's (the Department's) redetermination on remand of the final results of the antidumping duty administrative review on stainless steel wire rods from India. See Carpenter Technology, Corp. v. United States and Viraj Group, Slip Op. 06-102 (CIT July 7, 2006). The Department is now issuing this notice of court decision not in harmony.

EFFECTIVE DATE: July 21, 2006.

FOR FURTHER INFORMATION CONTACT: John Holman or Minoo Hatten, AD/CVD Operations, Office 5, Import Administration, U.S. Department of Commerce, 14th Street and Constitution Avenue, NW, Washington, DC 20230; telephone: (202) 482-3683 or (202) 482-1690, respectively.

SUPPLEMENTARY INFORMATION:

Background

On May 29, 2002, the Department published the final results of administrative review of the antidumping duty order on stainless steel wire rods from India for the period December 1, 1999, through November 30, 2000. See Stainless Steel Wire Rods from India; Final Results of Antidumping Duty Administration Review, 67 FR 37391 (May 29, 2002) (Final Results). In the underlying administrative review the Department collapsed Viraj Forgings Limited (VFL), Viraj Impoexpo Limited (VIL), and Viraj Alloys Limited (VAL). See Final Results and accompanying Issues and Decision Memorandum at Comment 1 and Collapsing Memorandum of the Viraj Group, Limited, dated December 31, 2001 (Collapsing Memo). Carpenter Technology Corporation (the Petitioner) contested the collapsing of these companies.

On August 16, 2004, the CIT issued a decision remanding one aspect of the Final Results, the collapsing of three of the Viraj companies. The CIT ordered the Department, “in the absence of any agency showing herein that dispels this logic based upon substantial evidence on the record,” to calculate and impose individual antidumping-duty margins upon VFL and VIL in the manner of the approach taken by the agency, and affirmed by the CIT, in Viraj Group, Ltd. v. United States, 162 F. Supp. 2d 656 (CIT 2001). On February 22, 2005, the Department filed the final results of its remand redetermination with the CIT. Due to the fact that only VFL and VIL made sales to the United States during the period of review, we did not include VAL's sales or cost data in our revised margin analyses for VFL and VIL. On July 7, 2006, the CIT affirmed the Department's final results of redetermination pursuant to remand.

The changes to our calculations with respect to VFL and VIL resulted in a weighted-average margin of 1.29 percent for VFL and a weighted-average margin of 3.77 percent for VIL for the period of review. Accordingly, absent an appeal, or, if appealed, upon a “conclusive” decision by the Court of Appeals for the Federal Circuit (CAFC) which is consistent with the CIT's decision, we will amend our final results of these reviews to reflect the recalculation of margins for VFL and VIL.

Suspension of Liquidation

The CAFC has held that the Department must publish notice of a decision of the CIT or the CAFC which is not in harmony with the Department's determination. See Timken Company v. United States, 893 F.2d 337, 341 (CAFC 1990). Publication of this notice fulfills that obligation. The CAFC also held that, in such a case, the Department must suspend liquidation until there is a “conclusive” decision in the action. Id. Therefore, the Department must suspend liquidation pending the expiration of the period to appeal the CIT's July 7, 2006, decision affirming the Department's remand results or pending a final decision of the CAFC if that decision is appealed.

The Department will not order the lifting of the suspension of liquidation on entries of stainless steel wire rods during the review period before a court decision in this lawsuit becomes final and conclusive.

We are issuing and publishing this notice in accordance with section 516A(c)(1) of the Act.

Dated: July 17, 2006.
Joseph A. Spetrini,
Acting Assistant Secretary for Import Administration.

[FR Doc. E6-11626 Filed 7-20-06; 8:45 am]

BILLING CODE 3510-DS-S